NATIONAL AERONAUTICS AND SPACE ADMINISTRATION

[Notice: 18-089]

NASA Advisory Council; Human Exploration and Operations Committee; Meeting

AGENCY: National Aeronautics and Space Administration.

ACTION: Notice of meeting.

SUMMARY: In accordance with the Federal Advisory Committee Act, as amended, the National Aeronautics and Space Administration (NASA) announces a meeting of the Human Exploration and Operations Committee of the NASA Advisory Council (NAC). This Committee reports to the NAC.

DATES: Thursday December 6, 2018, 8:30 a.m. to 4:30 p.m.; and Friday, December 7, 2018, 8:00 a.m. to 11:00 a.m., Eastern Time.

ADDRESSES: NASA Headquarters, Glennan Conference Center, Room 1Q39, 300 E Street SW, Washington, DC 20546.

FOR FURTHER INFORMATION CONTACT: Dr. Bette Siegel, Designated Federal Officer, Human Exploration and Operations Mission Directorate, NASA Headquarters, Washington, DC 20546, (202) 358-2245, or bette.siegel@nasa.gov.

SUPPLEMENTARY INFORMATION: The meeting will be open to the public up to the seating capacity of the room. This meeting will also available telephonically and by WebEx. You must use a touch-tone phone to participate in this meeting. Any interested person may dial the toll free access number 1-888-324-9238 or toll access number 1-517-308-9132, passcode 3403297 followed by the # sign, on both days, to participate in this meeting by telephone. Note: If dialing in, please “mute” your phone. The WebEx link is https://nasaenterprise.webex.com/, the meeting number is 902 972 850, and the password is Exploration@2018 (case sensitive).

The agenda for the meeting includes the following topics:

—Gateway and Power Propulsion Element Update

—Human Exploration and Operations Overview

—Exploration Systems

—International Space Station (ISS) Update

—Reliability Statistics, Planned vs. Actual, for ISS Components

—Commercial Crew

Attendees will be required to sign a register and comply with NASA security requirements, including the presentation of a valid picture ID before receiving access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee to Dr. Bette Siegel via email at bette.siegel@nasa.gov. To expedite admittance, U.S. citizens and Permanent Residents (green card holders) are requested to submit full name and citizenship status no less than 3 working days prior to the meeting to Dr. Bette Siegel via email at bette.siegel@nasa.gov. It is imperative that the meeting be held on this date to accommodate the scheduling priorities of the key participants.

Patricia Rausch,
Advisory Committee Management Officer, National Aeronautics and Space Administration.

[FR Doc. 2018-25160 Filed 11-16-18; 8:45 am]

BILLING CODE 7510-13-P